DEPARTMENT OF COMMERCE

Foreign Trade Zones Board

Order No. 1546

Grant of Authority for Subzone Status, Candies Shipbuilders, L.L.C. (Shipbuilding), Houma, Louisiana

Pursuant to its authority under the Foreign-Trade Zones Act of June 18, 1934, as amended (19 U.S.C. 81a-81u), the Foreign-Trade Zones Board (the Board) adopts the following Order:

Whereas, the Foreign-Trade Zones Act provides for ”. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Port of South Louisiana Commission, grantee of FTZ 124, has made application for authority to establish special-purpose subzone status at the shipbuilding facility of Candies Shipbuilders, L.L.C., located in Houma, Louisiana (FTZ Docket 17-2007, filed 4-20-2007);

Whereas, notice inviting public comment was given in the Federal Register(72 FR 21218, 4-30-2007); and,

Whereas, the Board adopts the findings and recommendations of the examiner's report, and finds that the requirements of the FTZ Act and Board's regulations would be satisfied, and that approval of the application would be in the public interest if approval were given subject to the standard shipyard restriction on foreign steel mill products;

Now, therefore, the Board hereby grants authority for subzone status for activity related to shipbuilding and repair at the shipyard of Candies Shipbuilders, L.L.C., in Houma, Louisiana (Subzone 124L), at the location described in the application, subject to the FTZ Act and the Board's regulations, including Section 400.28, and subject to the following special conditions: (1) any foreign steel mill products admitted to the subzone, including plate, angles, shapes, channels, rolled steel stock, bars, pipes and tubes, not incorporated into merchandise otherwise classified, and which is used in manufacturing, shall be subject to customs duties in accordance with applicable law, unless the Executive Secretary determines that the same item is not then being produced by a domestic steel mill; and, (2) Candies Shipbuilders, L.L.C., shall annually advise the Board's Executive Secretary (§ 400.28(a)(3)) as to significant new contracts with appropriate information concerning foreign purchases otherwise dutiable, so that the Board may consider whether any foreign dutiable items are being imported for manufacturing in the subzone primarily because of subzone status and whether the Board should consider requiring customs duties to be paid on such items.

Signed at Washington, DC, this 7th day of March 2008.

David M. Spooner
Assistant Secretary of Commerce for Import Administration, Alternate Chairman, Foreign-Trade Zones Board.
Attest:
Andrew McGilvray,
Executive Secretary.

[FR Doc. E8-5437 Filed 3-17-08; 8:45 am]

BILLING CODE 3510-DS-S